DEPARTMENT OF JUSTICE

Notice of Lodging of Consent Decree Under the Comprehensive Environmental Response, Compensation, and Liability Act

Notice is hereby given that on September 12, 2011, a proposed Consent Decree in United States of America v. CDS Investment Co., et al., Civil Action No. 2:11-cv-5696, D.J. Ref. 90-11-3-1604/1, was lodged with the United States District Court for the Eastern District of Pennsylvania.

In this action the United States sought reimbursement of response costs incurred and to be incurred in connection with the release or threatened release of hazardous substances at the AIW Frank/Mid-County Mustang Superfund Site (the “Site”) located near Exton, West Whiteland Township, Chester County, Pennsylvania. The Consent Decree obligates the Settling Defendants to pay a total of $830,000 which the United States and Pennsylvania will share in reimbursement of past response costs each has incurred at the Sites. The United States will receive 75% of this amount, and Pennsylvania will receive 25%. Pennsylvania will file a separate complaint and consent decree in order to effectuate its settlement with the Settling Defendants. The settlement also contains provisions by which the United States would receive at least 65% of the proceeds of any future recovery on insurance policies related to business operations at the Sites.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America v. CDS Investment Co., et al., Civil Action No. 2:11-cv-5696, D.J. Ref. 90-11-3-1604/1.

During the public comment period, the Consent Decree may be examined on the following Web site, http://www.usdoj.gov/enrd/Consent_Decrees.html, maintained by the Department of Justice. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.50 (@ 25 cents per page reproduction cost) payable to the U.S. Treasury or, if by e-mail or fax, forward a check in that amount to the Consent Decree Library at the stated address.

Robert Brook,
Assistant Chief, Environmental Enforcement Section, Environment and Natural Resources Division.

[FR Doc. 2011-23957 Filed 9-16-11; 8:45 am]

BILLING CODE 4410-15-P